DEPARTMENT OF ENERGY

Office of Energy Efficiency and Renewable Energy

[Case No. CAC-012]

Energy Conservation Program for Consumer Products: Publication of the Petition for Waiver and Granting of the Application for Interim Waiver of Mitsubishi Electric From the DOE Residential and Commercial Package Air Conditioner and Heat Pump Test Procedures

AGENCY: Office of Energy Efficiency and Renewable Energy, Department of Energy.

ACTION: Notice of Petition for Waiver, granting of application for interim waiver, and request for comments.

SUMMARY: Today's notice publishes a Petition for Waiver from Mitsubishi Electric and Electronics USA, Inc. (MEUS). This Petition for Waiver (hereafter “MEUS Petition”) requests a waiver of the test procedures applicable to residential and commercial package air conditioners and heat pumps. The Department of Energy (hereafter “Department” or “DOE”) is soliciting comments, data, and information with respect to the MEUS Petition. Furthermore, today's notice includes an alternate test procedure the Department is considering to include in the Decision and Order and for which it is requesting comments.

Today's notice also grants an Interim Waiver to MEUS from the existing Department test procedures applicable to residential and commercial package air conditioners and heat pumps.

DATES: The Department will accept comments, data, and information regarding this Petition for Waiver until, but no later than April 24, 2006.

ADDRESSES: Please submit comments, identified by case number [CAC-012], by any of the following methods:

• Mail: Ms. Brenda Edwards-Jones, U.S. Department of Energy, Building Technologies Program, Mailstop EE-2J, Forrestal Building, 1000 Independence Avenue, SW., Washington, DC 20585-0121. Telephone: (202) 586-2945. Please submit one signed original paper copy.

• Hand Delivery/Courier: Ms. Brenda Edwards-Jones, U.S. Department of Energy, Building Technologies Program, Room 1J-018, Forrestal Building, 1000 Independence Avenue, SW., Washington, DC 20585.

• E-mail: Michael.Raymond@ee.doe.gov. Include either the case number [CAC-012], and/or “MEUS Petition” in the subject line of the message.

• Federal eRulemaking Portal: http://www.regulations.gov. Follow the instructions for submitting comments.

Instructions: All submissions received must include the agency name and case number for this proceeding. Submit electronic comments in WordPerfect, Microsoft Word, PDF, or text (ASCII) file format and avoid the use of special characters or any form of encryption. Wherever possible, include the electronic signature of the author. Absent an electronic signature, comments submitted electronically must be followed and authenticated by submitting the signed original paper document. The Department does not accept telefacsimiles (faxes). Any person submitting written comments must also send a copy of such comments to the petitioner. (10 CFR 430.27(b)(1)(iv), 431.201(d)(2)) ¹ The name and address of the petitioner of today's notice is: William Rau, Senior Vice President and General Manager, HVAC Advanced Products Division, Mitsubishi Electric & Electronics USA, Inc., 4300 Lawrenceville-Suwanee Road, Suwanee, GA 30024.

¹ On October 18, 2005, DOE published a technical amendment which re-designates Subpart L (sections 431.201 through 431.207) of the Code of Federal Regulations (CFR) as Subpart V (sections 431.401 through 431.407). (70 FR 60407, October 18, 2005) DOE published the technical amendment to place in the CFR the energy conservation standards and related definitions that Congress prescribed in the Energy Policy Act of 2005 for certain consumer products and commercial and industrial equipment. The amendment does not change the test procedure waiver provisions for commercial equipment, but moves them from 10 CFR 431.201 to 431.401. The residential test procedure waiver provisions remain at 10 CFR 430.27.

According to 10 CFR 1004.11, any person submitting information that he or she believes to be confidential and exempt by law from public disclosure should submit two copies: one copy of the document including all the information believed to be confidential, and one copy of the document with the information believed to be confidential deleted. The Department will make its own determination about the confidential status of the information and treat it according to its determination.

Docket: For access to the docket to read the background documents relevant to this matter, go to the U.S. Department of Energy, Forrestal Building, Room 1J-018 (Resource Room of the Building Technologies Program), 1000 Independence Avenue, SW., Washington, DC, (202) 586-2945, between 9 a.m. and 4 p.m., Monday through Friday, except Federal holidays. Available documents include the following items: this notice; public comments received; the Petition for Waiver and Application for Interim Waiver; prior Department rulemakings regarding commercial central air conditioners and heat pumps; and the prior MEUS Petition for Waiver, the Department's notice of the prior MEUS Petition for Waiver and the subsequent Department Decision and Order. Please call Ms. Brenda Edwards-Jones at the above telephone number for additional information regarding visiting the Resource Room. Please note: The Department's Freedom of Information Reading Room (formerly Room 1E-190 at the Forrestal Building) is no longer housing rulemaking materials.

FOR FURTHER INFORMATION CONTACT: Dr. Michael G. Raymond, U.S. Department of Energy, Office of Energy Efficiency and Renewable Energy, Building Technologies Program, Mail Stop EE-2J, Forrestal Building, 1000 Independence Avenue, SW., Washington, DC 20585-0121, (202) 586-9611; e-mail: Michael.Raymond.ee.doe.gov; or

Francine Pinto, Esq., U.S. Department of Energy, Office of General Counsel, Mail Stop GC-72, Forrestal Building, 1000 Independence Avenue, SW., Washington, DC 20585-0103, (202) 586-9507; e-mail: Francine.Pinto@hq.doe.gov.

SUPPLEMENTARY INFORMATION:

I. Background and Authority

II. Petition for Waiver

III. Application for Interim Waiver

IV. Alternate Test Procedure

V. Summary and Request for Comments

I. Background and Authority

Title III of the Energy Policy and Conservation Act (EPCA) sets forth a variety of provisions concerning energy efficiency. Part B of Title III (42 U.S.C. 6291-6309) provides for the “Energy Conservation Program for Consumer Products other than Automobiles.” Part C of Title III (42 U.S.C. 6311-6317) provides for an energy efficiency program entitled “Certain Industrial Equipment,” which is similar to the program in Part B, and which includes commercial air conditioning equipment, packaged boilers, water heaters, and other types of commercial equipment.

Today's notice involves residential products under Part B, and commercial equipment under Part C. Both parts specifically provide for definitions, test procedures, labeling provisions, energy conservation standards, and the authority to require information and reports from manufacturers. With respect to test procedures, both parts generally authorize the Secretary of Energy to prescribe test procedures that are reasonably designed to produce results which reflect energy efficiency, energy use and estimated operating costs, and that are not unduly burdensome to conduct. (42 U.S.C. 6293(b)(3), 6314(a)(2)).

MEUS's petition requests a waiver from both the residential and commercial test procedures for its R410A models of its CITY MULTI Variable Refrigerant Flow Zoning (VRFZ) product line, which are sold for commercial use. The test procedures for residential products appear at 10 CFR part 430, subpart B, Appendix M. EPCA provides that the Secretary of Energy may amend test procedures for consumer products if the Secretary determines that amended test procedures would more accurately reflect energy efficiency, energy use or estimated annual operating costs, and are not unduly burdensome to conduct. (42 U.S.C. 6293(b)(1)(A), and 42 U.S.C. 6293(b)(3)).

For commercial package air conditioning and heating equipment, EPCA provides that the test procedures shall be those generally accepted industry testing procedures or rating procedures developed or recognized by the Air-Conditioning and Refrigeration Institute (ARI) or by the American Society of Heating, Refrigerating and Air Conditioning Engineers (ASHRAE), as referenced in ASHRAE/IES Standard 90.1 and in effect on June 30, 1992. (42 U.S.C. 6314(a)(4)(A)) This section also provides for the Secretary of Energy to amend the test procedure for a product if the industry test procedure is amended, unless the Secretary determines that such a modified test procedure does not meet the statutory criteria. (42 U.S.C. 6314(a)(4)(B)). On October 21, 2004, the Department published a direct final rule adopting test procedures for commercial package air conditioning and heating equipment, effective December 20, 2004. DOE adopted ARI Standard 210/240-2003 for small commercial package air conditioning and heating equipment with capacities <65,000 Btu/h and ARI Standard 340/360-2000 for large commercial package air conditioning and heating equipment with capacities ≥ 135,000 Btu/h and <240,000 Btu/h and small commercial package air conditioning and heating equipment with capacities ≥65,000 Btu/h and <135,000 Btu/h. (69 FR 61962, October 21, 2004) The capacities of MEUS's MULTI CITY VRFZ products sold for commercial use fall in the ranges covered by both the commercial standards, ARI Standard 340/360-2000 and the ARI Standard 210/240-2003, and the test procedures for residential products cited above.

The Department's regulations contain provisions allowing a person to seek a waiver from the test procedure requirements for covered consumer products. These provisions are set forth in 10 CFR 430.27. The waiver provisions for commercial equipment are substantively identical to those for covered consumer products and are found at 10 CFR 431.401 (formerly, 10 CFR 431.201).

The waiver provisions allow the Assistant Secretary for Energy Efficiency and Renewable Energy (hereafter “Assistant Secretary”) to temporarily waive test procedures for a particular basic model when a petitioner shows that the basic model contains one or more design characteristics that prevent testing according to the prescribed test procedures, or when the prescribed test procedures may evaluate the basic model in a manner so unrepresentative of its true energy consumption as to provide materially inaccurate comparative data. (10 CFR 430.27(a)(1), 10 CFR 431.201(a)(1)) The Assistant Secretary may grant the waiver subject to conditions, including adherence to alternate test procedures. Petitioners are to include in their petition any alternate test procedures known to evaluate the basic model in a manner representative of its energy consumption. (10 CFR 430.27(b)(1)(iii), 10 CFR 431.201(b)(1)(iii)) Waivers generally remain in effect until final test procedure amendments become effective, thereby resolving the problem that is the subject of the waiver.

The waiver process also allows the Assistant Secretary to grant an Interim Waiver from test procedure requirements to manufacturers that have petitioned the Department for a waiver of such prescribed test procedures. (10 CFR 430.27(a)(2), 10 CFR 431.201(a)(2)) An Interim Waiver remains in effect for a period of 180 days or until the Department issues its determination on the Petition for Waiver, whichever is sooner, and may be extended for an additional 180 days, if necessary. (10 CFR 430.27(h), 10 CFR 431.201(e)(4)).

II. Petition for Waiver

On November 7, 2005, MEUS filed an Application for Interim Waiver and a Petition for Waiver from the test procedures applicable to its residential and commercial package air conditioning and heating equipment. In particular, MEUS requested a waiver from the residential test procedures contained in 10 CFR part 430, subpart B, Appendix M, and a waiver from the commercial test procedures contained in ARI Standard 210/240-2003 and in ARI Standard 340/360-2000. The Department previously granted MEUS a waiver from test procedures in 2004 for similar models which use R22 as a refrigerant. (69 FR 52660, August 27, 2004) Given product adjustments to accommodate the new R410A refrigerant, MEUS requests a waiver from the test procedures for its new MULTI CITY models.

MEUS seeks a waiver from the applicable test procedures because, MEUS asserts, design characteristics of the R410A CITY MULTI VRFZ systems prevent testing according to the currently prescribed test procedures. MEUS claims that its R410A models cannot be tested pursuant to the existing test procedures for the same reasons that its R22 models were previously granted a waiver by the Department. In particular, the R410A CITY MULTI systems can connect more indoor units than the test laboratories can physically test at one time. Because of the inability to test products with so many indoor units, testing laboratories will not be able to test many of the R410A system combinations. Furthermore, MEUS asserts that the current test procedures do not provide direction for determining what combinations of outdoor and indoor units should be tested in the circumstance where a multitude of different combinations are possible. Also, the test procedures provide no mechanism for sampling component combinations. In addition, MEUS asserts that it is not practical to test all of the potentially available combinations of indoor and outdoor units, which numbers in the billions.

MEUS states that the R410A CITY MULTI system is designed to be flexible, with numerous combinations possible. According to MEUS, each of the indoor units is designed to be used with up to 18 other indoor units with the 108,000 Btu/h outdoor units and potentially 31 other indoor units with the 234,000 Btu/h outdoor units. Also, MEUS offers 58 different indoor models that can be used in the different combinations. Given the above, MEUS asserts the current test procedures cannot practically be applied to the CITY MULI VRFZ systems.

In addition, MEUS asserts, the current test procedures evaluate CITY MULTI VRFZ system products in a manner not representative of their true energy efficiency. MEUS claims that many benefits of its system characteristics, including variable refrigerant control and distribution, zoning diversity, part-load operation and simultaneous heating and cooling, are not credited under the current test procedures.

The MEUS petition requests that the Department grant a waiver from existing test procedures until such time as a representative test procedure is developed and adopted for this class of products. MEUS did not include an alternate test procedure in its petition and noted that it knows of no alternative test procedure that could evaluate its products in a representative manner. However, MEUS is actively working with ARI to develop test procedures that accurately reflects the operation and energy consumption of these types of units.

III. Application for Interim Waiver

MEUS also requested an Interim Waiver to allow it to introduce its new R410A products in the U.S. market while the Department evaluates the Petition for Waiver. An Interim Waiver may be granted if it is determined that the applicant will experience economic hardship if the Application for Interim Waiver is denied, if it appears likely that the Petition for Waiver will be granted, and/or the Assistant Secretary determines that it would be desirable for public policy reasons to grant immediate relief pending a determination of the Petition for Waiver. (10 CFR 431.201(e)(3), 430.27(g)).

MEUS's Application for Interim Waiver does not provide sufficient information to evaluate what, if any, economic hardship MEU will likely experience if its Application for Interim Waiver is denied. However, in those instances where the likely success of the Petition for Waiver has been demonstrated, based upon the Department having granted a waiver for a similar product design, it is in the public interest to have similar products tested and rated for energy consumption on a comparable basis. For MEUS's new R410A CITY MULTI VRFZ products, it appears likely that the Petition for Waiver will be granted. The products currently under consideration, MEUS's new R410A CITY MULTI VRFZ products, are quite similar to the MEUS products previously granted a waiver, MEUS's R22 CITY MULTI VRFZ products. (69 FR 52660, August 27, 2004) The previous MEUS waiver was granted because MEUS's R22 products cannot be tested according to the prescribed test procedures, for two reasons: (1) Test laboratories cannot test products with so many indoor units (at the time of the ruling, R22 CITY MULTI VRFZ outdoor systems could connect an outdoor unit with up to sixteen indoor units); and (2) there are too many possible combinations of indoor and outdoor units (at the time of the ruling, MEUS offered 58 R22 indoor unit models, allowing for well over 1,000,000 combinations for each outdoor unit), and it is impractical to test so many combinations. As discussed above, the new MEUS CITY MULTI VRFZ systems will likely suffer the same testing problems that prompted the Department to grant MEUS the waiver for its R22 products. Thus, it is likely that MEUS's Petition for Waiver will be granted for the new R410A models.

Therefore, MEUS's Application for an Interim Waiver from the Department test procedure for its new R410A CITY MULTI VRFZ systems is granted. Hence, it is ordered that:

The Application for Interim Waiver filed by MEUS is hereby granted for MEUS's new R410A CITY MULTI VRFZ central air conditioners and central air conditioning heat pumps. MEUS shall not be required to test or rate its CITY MULTI VRFZ products listed below on the basis of the currently applicable test procedures, which are the test procedures contained in 10 CFR part 430, subpart B, Appendix M, for the PUMY-P48TGMU-* model, listed last, and ARI 340/360-2000 and ARI 210/240-2003, for the other listed models:

CITY MULTI Variable Refrigerant Flow Zoning System R-2 Series Outdoor Equipment:²

² The * denotes engineering differences in the models.

• PURY-P72TGMU-*, 72,000 Btu/h, 208/230-3-60 split-system variable-speed heat pump

• PURY-P96TGMU-*, 96,000 Btu/h, 208/230-3-60 split-system variable-speed heat pump

• PURY-P108TGMU-*, 108,000 Btu/h, 208/230-3-60 split-system variable-speed heat pump

• PURY-P126TGMU-*, 126,000 Btu/h, 208/230-3-60 split-system variable-speed heat pump

• PURY-P144TGMU-*, 144,000 Btu/h, 208/230-3-60 split-system variable-speed heat pump

• PURY-P168TGMU-*, 168,000 Btu/h, 208/230-3-60 split-system variable-speed heat pump

• PURY-P192TGMU-*, 192,000 Btu/h, 208/230-3-60 split-system variable-speed heat pump

• PURY-P204TGMU-*, 204,000 Btu/h, 208/230-3-60 split-system variable-speed heat pump

• PURY-P216TGMU-*, 216,000 Btu/h, 208/230-3-60 split-system variable-speed heat pump

• PURY-P234TGMU-*, 234,000 Btu/h, 208/230-3-60 split-system variable-speed heat pump

CITY MULTI Variable Refrigerant Flow Zoning System Y-Series Outdoor Equipment:

• PUHY-P72TGMU-*, 72,000 Btu/h, 208/230-3-60 split-system variable-speed heat pump

• PUHY-P96TGMU-*, 96,000 Btu/h, 208/230-3-60 split-system variable-speed heat pump

• PUHY-P108TGMU-*, 108,000 Btu/h, 208/230-3-60 split-system variable-speed heat pump

• PUHY-P126TGMU-*, 126,000 Btu/h, 208/230-3-60 split-system variable-speed heat pump

• PUHY-P144TGMU-*, 144,000 Btu/h, 208/230-3-60 split-system variable-speed heat pump

• PUHY-P168TGMU-*, 168,000 Btu/h, 208/230-3-60 split-system variable-speed heat pump

• PUHY-P192TGMU-*, 192,000 Btu/h, 208/230-3-60 split-system variable-speed heat pump

• PUHY-P204TGMU-*, 204,000 Btu/h, 208/230-3-60 split-system variable-speed heat pump

• PUHY-P216TGMU-*, 216,000 Btu/h, 208/230-3-60 split-system variable-speed heat pump

• PUHY-P234TGMU-*, 234,000 Btu/h, 208/230-3-60 split-system variable-speed heat pump

CITY MULTI Variable Refrigerant Flow Zoning System Indoor Equipment:

P*FY models, ranging from 6,000 to 96,000 Btu/h, 208/230-1-60 split-system variable-capacity air conditioner or heat pump.

• PCFY Series—Ceiling Suspended—PCFY-P12/18/24/30/36***-*

• PDFY Series—Ceiling Concealed Ducted—PDFY-P06/08/12/15/18/24/30/36/48***-*

• PEFY Series—Ceiling Concealed Ducted (Low Profile)—PEFY-P06/08/12***-*

• PEFY Series—Ceiling Concealed Ducted (Alternate High Static Option)-PEFY-P15/18/24/27/30/36/48/54/72/96***-*

• PEFY-F Series—Ceiling Concealed Ducted (100% OA Option)—PEFY-P30/54/72/96***-*-*

• PFFY Series—Floor Standing (Concealed)—PEFY-P06/08/12/15/18/24***-*

• PFFY Series—Floor Standing (Exposed)—PEFY-P06/08/12/15/18/24***-*

• PKFY Series—Wall-Mounted—PKFY-P06/08/12/18/24/30***-*

• PLFY Series—4-Way Airflow Ceiling Cassette—PEFY-P12/18/24/30/36***-*

• PMFY Series—1-Way Airflow Ceiling Cassette—PEFY-P06/08/12/15***-*

CITY MULTI Variable Refrigerant Flow Zoning System S-Series Outdoor Equipment:

• PUMY—P48TGMU-*, 48,000 Btu/h, 208/230-1-60 split-system variable-speed heat pump.³

³ Though Mitsubishi sells the PUMY-P48TGMU-* model as a commercial product, it is tested according to the residential test procedures prescribed by DOE, at 10 CFR part 430, subpart B, Appendix M.

This Interim Waiver is based upon the presumed validity of statements and allegations submitted by the company. This Interim Waiver may be removed or modified at any time upon a determination that the factual basis underlying the Application is incorrect. The Interim Waiver shall remain in effect for a period of 180 days or until the Department acts on the Petition for Waiver, whichever is sooner, and may be extended for an additional 180-day period, if necessary.

IV. Alternate Test Procedure

Manufacturers face restrictions with respect to making representations about the energy consumption and energy consumption costs of products covered by EPCA. (42 U.S.C. 6314(d), 42 U.S.C. 6293(c)). Consistent representations are important for manufacturers to make claims about the energy efficiency of their products. For example, they are necessary to determine compliance with state and local energy codes and regulatory requirements, and can provide valuable consumer purchasing information. To provide a test procedure from which manufacturers can make valid representations, the Department is considering setting an alternate test procedure for MEUS in the subsequent Decision and Order. Furthermore, if DOE specifies an alternate test procedure for MEUS, DOE is considering applying the alternate test procedure to similar waivers for residential and commercial central air conditioners and heat pumps. Such cases include Samsung's petition for its DVM products (70 FR 9629, February 28, 2005), Fujitsu's petition for its Airstage variable refrigerant flow (VRF) products (70 FR 5980, February 4, 2005), and MEUS's petition for its R22 CITY MULTI VRFZ products (69 FR 52660, August 27, 2004).

As noted above, existing testing facilities have a limited ability to test multiple indoor units at one time, and the number of possible combination of indoor and outdoor units for some variable refrigerant zoning systems is impractical to test. Subsequent to the waiver that DOE granted for MEUS's R22 models, ARI developed a committee to discuss the issue and work on developing an appropriate test protocol for variable refrigerant zoning systems. However, to date, no additional test methodologies have been adopted by the committee or put forth to the Department. Furthermore, the Department is aware that the time required for drafting and approving such standards may be months or even years.

DOE is considering amending the waiver issued to MEUS on August 27, 2004. DOE has been aware that MEUS has made efficiency representations for its City Multi products on its Web site for several years. The efficiency representations are currently listed under the headings “System Efficiency” for cooling, and “System COP” for heating. DOE is considering prohibiting the making of efficiency representations for the products granted a waiver on August 27, 2004, because these products were granted a waiver for the reason that the products could not be tested, which implies that representations cannot be made on the basis of testing.

DOE is considering what energy efficiency representations it will allow for these products. If DOE grants this waiver, MEUS could sell products with energy efficiency representations under one of three methods outlined in (3)(B) below. An alternate test procedure is needed in order that manufacturers can make representations for their products. Even though MEUS did not include an alternate test procedure in their petition, and DOE did not specify one in the previous MEUS waiver, DOE is considering including in the Decision and Order the following waiver language:

(1) The “'Petition for Waiver”' filed by Mitsubishi Electric and Electronics USA, Inc. (MEUS) is hereby granted as set forth in the paragraphs below.

(2) MEUS shall be not be required to test or rate the CITY MULTI Variable Refrigerant Flow Zoning System (VRFZ) products covered in this waiver on the basis of the currently applicable test procedure, but shall be required to test and rate its CITY MULTI VRFZ products covered in this waiver according to the alternate test procedure as set forth in paragraph (3).

(3) Alternate test procedure. MEUS shall be required to test according to those test procedures for central air conditioners and heat pumps prescribed by DOE at 10 CFR parts 430 and 431, except for the first sentence in 10 CFR 430.24(m)(2), which refers to “that combination manufactured by the condensing unit manufacturer likely to have the highest volume of retail sales.” Instead of testing the combinations likely to have the highest volume of retail sales, which may be difficult to identify, MEUS may test a “tested combination” selected in accordance with the provisions of subparagraph (A) of this section. MEUS may make representations of the MULTI CITY products covered in this waiver, according to the provisions of subparagraph (B).

(A) Tested combination. The term “tested combination” means a sample basic model comprised of units that are production units, or are representative of production units, of the basic model being tested. For the purposes of this waiver, the tested combination shall have the following features:

(i) The basic model of a variable refrigerant flow system (“VRF system”) used as a tested combination shall consist of an outdoor unit that is matched with between 2 and 5 indoor units.

(ii) The indoor units shall—

(a) Represent the highest sales volume type models;

(b) Together, have a capacity between 95% and 105% of the capacity of the outdoor unit;

(c) Not, individually, have a capacity greater than 50% of the capacity of the outdoor unit;

(d) Have a fan speed that is consistent with the manufacturer's specifications; and

(e) All have the same external static pressure.

(B) Representations. MEUS may make representations about the Energy Efficiency Rating (“EER”) or Coefficient of Performance (“COP”) of products covered by this test procedure waiver only to the extent that such representations are made consistent with the provisions outlined below:

(i) If MEUS chooses to test retail combinations of its MULTI CITY VRFZ products, MEUS may make representations about these retail combinations according to those test procedures for central air conditioners and heat pumps prescribed at 10 CFR parts 430 and 431.

(ii) In the case where MEUS does not test retail combinations, MEUS may make representations which are based on the testing results from the tested combination and which are consistent with any of the three following methods:

(a) Representation of non-tested combinations according to an Alternative Rating Method (ARM) approved by DOE and described in 10 CFR 430.24(m).

(b) Representation of non-tested combinations with the representation given the tested combination.⁴

⁴ Currently, no alternate rating method exists by which MEUS can rate its CITY MULTI VRFZ products. Given a waiver from applicable DOE test procedures and no alternate rating method, MEUS faces limitations in making representations with its CITY MULTI VRFZ products. As such, to comply with California state building codes, the California Energy Commission is requiring the MEUS represent its CITY MULTI VRFZ products as minimal efficiency commercial package air conditioner and heat pumps. (G. William Pennington, Manager Buildings Appliances Office, California Energy Commission, Letter to William Rau, Senior Vice President, General Manager, Mitsubishi Electric & Electronics USA, Inc, 16 June 2005) DOE believes that making a representation according to a tested combination would permit MEUS to make more accurate representations of its CITY MULTI VRFZ products.

(c) Representation of non-tested combinations at the DOE prescribed minimum efficiency level for the product class.

Method (a) is already allowed for all central air conditioners. It is not, at this time, possible for products such as MEUS' multi-splits, because an ARM has not been developed for this type of product.

Method (b) is a reduction of method (a). In method (a), with an ARM, the efficiency of non-tested combinations is calculated based on a tested combination that has the same outdoor unit as the non-tested combinations. The calculation is based on physical parameters of the indoor unit such as face area, number of rows, refrigerant circuitry, etc. In general, the efficiency calculated in this way will be either higher or lower than the efficiency of the tested combination. However, no ARM has been developed for these products, so the Department is proposing to allow MEUS to represent temporarily that all combinations using a particular outdoor unit have the efficiency of the combination that has been tested with that outdoor unit. That is equivalent to characterizing the indoor unit as having no effect on the efficiency. The Department believes this is reasonable because the outdoor unit is the principal efficiency driver, and the required test procedure does not exactly fit these products, but tends to rate them very conservatively. This is because the products are capable of simultaneous heating and cooling, which is more efficient than requiring all zones to be either heated or cooled, and because the test procedure requires full load testing, which disadvantages these products, which are optimized for best efficiency when operating with less than full loads.

Method (c) allows rating at the minimum standard level without testing because the Department believes the products' efficiency in actual use would be at least as great as conventional products with efficiencies at the minimum standard level, because the required efficiency descriptor rates the products at full load. The products have higher efficiency when operating at part-load conditions, and the products, in fact, normally operate at part-load conditions. Further, the multi-zoning feature of these products, which enables them to cool only those portions of the building which require cooling, uses less energy than if the whole building must be cooled when cooling is required.

V. Summary and Request for Comments

Today's notice announces a MEUS Petition for Waiver and grants MEUS an Interim Waiver from the test procedures applicable to MEUS's R410A MULTI CITY package air conditioner and heat pump units. The Department is publishing the MEUS Petition for Waiver in its entirety. The Petition contains no confidential information. Furthermore, today's notice includes an alternate test procedure that the Department is considering to include in the subsequent Decision and Order. In this alternate test procedure, the Department proposes defining a “tested combination” which MEUS could test in lieu of testing all retail combinations of its VRFZ MULTI CITY products. Furthermore, should a manufacturer not be able to test all retail combinations, DOE proposes allowing manufacturers to rate waived products according to an alternate rating method approved by DOE, to rate waived products as the same as that for the specified tested combination, or to rate at the minimum efficiency level without testing.

The Department is also considering amending the waiver previously issued to MEUS on August 27, 2004, because MEUS is making energy efficiency representations even though it previously had represented to the Department that such units could not be tested. Thus, MEUS sold untested units with energy efficiency ratings that had not been properly verified.

The Department is interested in receiving comments on all aspects of this notice. The Department is particularly interested in receiving comments and views of interested parties concerning the proposed alternate test procedure and the representations under consideration for the upcoming Decision and Order for the MEUS Petition, as well as for other similar air conditioner and heat pump cases. Specifically, the Department would like to receive comment on the following questions:

• Is it appropriate for MEUS to use the proposed test procedure for ratings, representations and compliance with state and local energy codes and regulatory requirements?

• What should the Department prescribe for manufacturers in situations where the defined tested combination is not testable or practical to test?

• Would it be appropriate for DOE to create a separate class for multi-split, zoned central air conditioner and heat pumps, as an alternative to prescribing an alternate test procedure or modifying existing central air conditioner and heat pump test procedures? In this case, such central air conditioner and heat pump models would not be subject to an energy standard until an appropriate test procedure is developed and prescribed.

• Should the Department allow energy efficiency representations for non-tested combinations of these products at the level of the tested combination?

• Should the Department allow energy efficiency representations for non-tested combinations at the DOE prescribed minimum efficiency level for the product class?

• Is the Department's proposed definition of “tested combination” useful and workable?

• Are there possible modifications to any test procedures or alternative rating methods which the Department could use to fairly represent the energy efficiency of MEUS R410A CITY MULTI products, as well as similar multi-split products from other manufacturers?

Any person submitting written comments must also send a copy of such comments to the petitioner, whose contact information is cited above.(10 CFR 431.201(d)(2), 10 CFR 430.27(b)(1)(iv)).

Issued in Washington, DC, on March 15, 2006.
Douglas L. Faulkner,
Acting Assistant Secretary, Energy Efficiency and Renewable Energy.

BILLING CODE 6450-01-P

[FR Doc. 06-2842 Filed 3-23-06; 8:45 am]

BILLING CODE 6450-01-C